DEPARTMENT OF TRANSPORTATION

Surface Transportation Board

[STB Finance Docket No. 34140]

Lake Michigan & Indiana Railroad Company LLC—Acquisition and Operation Exemption—Keystone Railroad, Inc.

Lake Michigan & Indiana Railroad Company LLC (LMIC), a noncarrier at the time of the transaction described in this notice, has filed a verified notice of exemption under 49 CFR 1150.31 to acquire and operate a 66-mile rail line in Burns Harbor, Porter County, IN,¹ previously leased by its corporate affiliate Keystone Railroad, Inc. (Keystone).²

¹ LMIC states that the rail line is composed of former yard and switching tracks and does not have assigned mileposts.

² Both Keystone and LMIC are wholly owned subsidiaries of Bethlehem Steel Corporation.

LMIC states that it took over the lease from Keystone and commenced operations on the rail line in October 2001, pursuant to an exemption it received in Bethlehem Steel Corporation, Keystone Railroad, Inc., and Lake Michigan & Indiana Railroad Company LLC—Corporate Family Transaction Exemption, STB Finance Docket No. 34101 (STB served Oct. 25, 2001). LMIC notes that it filed its notice of exemption in STB Finance Docket No. 34140 after the Board's staff informed LMIC that, as a newly formed noncarrier, an exemption from the requirements of 49 U.S.C. 10901 was needed as well.

LMIC states that its revenues are expected to exceed $5,000,000 per year. Under 49 CFR 1150.32(e), “If the projected annual revenue of the rail lines to be acquired or operated, together with the acquiring carrier's projected annual revenue, exceeds $5 million, the applicant must, at least 60 days before the exemption becomes effective, post a notice of applicant's intent to undertake the proposed transaction at the workplace of the employees on the affected line(s) and serve a copy of the notice on the national offices of the labor unions setting forth the types and numbers of jobs expected to be available, the terms of employment and principles of employee selection, and the lines that are to be transferred, and certify to the Board that it has done so.” When LMIC filed its verified notice of exemption in STB Finance Docket No. 34140, it simultaneously requested a waiver of the requirements of 49 CFR 1150.32(e) to permit the exemption to become effective without providing the 60-day advance notice. Finding no adverse impact on the personnel of Keystone, by decision served on December 27, 2001, the Board granted LMIC's request and waived the requirements of 49 CFR 1150.32(e). That decision had the effect of making the exemption in this proceeding effective on December 27, 2001.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34140 must be filed with the Surface Transportation Board, Office of the Secretary, Case Control Unit, 1925 K Street, NW., Washington, DC 20423-0001. In addition, a copy of each pleading must be served on Eric M. Hockey, Esq., Gollatz, Griffin & Ewing, P.C., 213 West Miner Street, PO Box 796, West Chester, PA 19381-0796.

Board decisions and notices are available on our Web site at www.stb.dot.gov.

Decided: January 2, 2002.
By the Board, David M. Konschnik, Director, Office of Proceedings.
Vernon A. Williams,
Secretary.

[FR Doc. 02-538 Filed 1-9-02; 8:45 am]

BILLING CODE 4915-00-P